DEPARTMENT OF ENERGY

Bonneville Power Administration

Fish and Wildlife Implementation Plan

AGENCY: Bonneville Power Administration (BPA), Department of Energy (DOE).

ACTION: Notice of availability of Record of Decision (ROD).

SUMMARY: This notice announces the availability of BPA's ROD to adopt the Preferred Alternative (PA 2002) Policy Direction in its Fish and Wildlife Implementation Plan Environmental Impact Statement (FWIP EIS, DOE/EIS-0312, April 2003). BPA has decided to adopt this Preferred Alternative as a comprehensive and consistent policy to guide the implementation and funding of the agency's fish and wildlife mitigation and recovery efforts. PA 2002 focuses on enhancing fish and wildlife habitat, modifying hydro operations and structures, and reforming hatcheries to both increase populations of listed fish stocks and provide long-term harvest opportunities. PA 2002 reflects fish and wildlife policy guidance for the Pacific Northwest region and considers extensive public input. It is also consistent with the fish and wildlife component of BPA's earlier Business Plan decision to use a Market-Driven approach for participation in the electric utility market (Business Plan EIS, DOE/EIS-0183, June 1995, and Business Plan ROD, August 15, 1995).

ADDRESSES: Copies of the ROD and EIS may be obtained by calling BPA's toll-free document request line, 1-800-622-4520. The ROD and EIS are also available on our Web site, www.efw.bpa.gov.

FOR FURTHER INFORMATION CONTACT: Charles Alton, Project Manager, Bonneville Power Administration—KEC-4, P.O. Box 3621, Portland, Oregon, 97208-3621; telephone number 503-230-5878; e-mail ccalton@bpa.gov.

Issued in Portland, Oregon, on October 31, 2003.
Stephen J. Wright,
Administrator and Chief Executive Officer.

[FR Doc. 03-28507 Filed 11-13-03; 8:45 am]

BILLING CODE 6450-01-P